CORPORATION FOR NATIONAL AND COMMUNITY SERVICE

Approval of an Information Collection Currently Approved Through Emergency Clearance; Submission for OMB review; Comment request

AGENCY: Corporation for National and Community Service.

ACTION: Notice.

SUMMARY: The Corporation for National and Community Service (hereinafter the “Corporation”), has submitted the two following public information collection requests (ICRs) to the Office of Management and Budget (OMB) for review and approval in accordance with the Paperwork Reduction Act of 1995 (Pub. L. 104-13), (44 U.S.C. Chapter 35). Copies of these individual ICRs (one for AmeriCorps and one for Learn and Serve America), with applicable supporting documentation, may be obtained by calling the Corporation for National and Community Service, LaMonica Shelton, (202) 606-5000, ext. 464 for the AmeriCorps collection and Kimberly Spring, ext. 543 for the Learn and Serve collection. Individuals who use a telecommunications device for the deaf (TTY-TDD) may call (202) 565-2799 between 8:30 a.m. and 5 p.m. Eastern time, Monday through Friday.

ADDRESSES: Comments may be submitted, identified by the title of the information collection activity, to the Office of Information and Regulatory Affairs, Attn: Ms. Katherine Astrich, OMB Desk Officer for the Corporation for National and Community Service, by any of the following two methods within 30 days from the date of this publication in the Federal Register:

(1) By fax to: (202) 395-6974, Attention: Ms. Katherine Astrich, OMB Desk Officer for the Corporation for National and Community Service; and

(2) Electronically by e-mail to: Katherine_T._Astrich@omb.eop.gov.

The initial 60-day Federal Register notice for Performance Measurement in AmeriCorps was published on January 21, 2004. The initial 60-day Federal Register notice for Learn and Serve America Program and Performance Reporting System was published on January 9, 2004. The comment period for these notices have elapsed, and the Corporation has since received emergency approval from OMB.

In direct response to the 60-day Federal Register Notice published on January 21, 2004, the Corporation for National and Community Service (the “Corporation”) received two comments from the general public regarding the AmeriCorps surveys. In summary, the two comments reflected concerns and suggestions regarding (1) contacting potential survey respondents; (2) more clearly and appropriately identifying the survey respondents, survey requirements and sampling methodology to increase the level of responses and responsiveness; and (3) expanding some of the question types and indicators to capture a broader range of survey responses and to reflect the potential impacts of the AmeriCorps experience upon members and volunteers.

As a result of this feedback, we better modified questions to address the proper audiences and revised questions so that we can capture more information on the effects that volunteer service has upon members.

The Corporation received no comments from the general public regarding the Learn and Serve Program and Performance Reporting System as a result of the 60-day Federal Register Notice published on January 9, 2004.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses. Type of Review: Currently approved through emergency clearance. Agency: Corporation for National and Community Service. Title: (1) Performance Measurement in AmeriCorps: Surveys of Members, Organizations and End Beneficiaries; and (2) Learn and Serve America Program and Performance Reporting System.

OMB Number: 3045-0094(AmeriCorps) and 3045-0095(Learn and Serve).

Frequency: Annual.

Affected Public: Individuals and households, various small community and faith-based organizations, non-profits, state and local government and education institutions.

Number of Respondents: 6415 (3747 for AmeriCorps and 2668 for LSA).

Estimated Time Per Respondent: Ten minutes for AmeriCorps and one hour for LSA.

Total Burden Hours: 3172 hours (630 for AmeriCorps and 2542 for LSA).

Total Burden Cost (capital/startup): None.

Total Annual Cost (operating/maintaining systems or purchasing services): None.

Description: The Corporation is strongly committed to making its performance measurement and management systems more results oriented in order to strengthen the accountability and performance of its programs. As part of its effort to do so, there is a need to collect outcome information regarding the Corporation's AmeriCorps programs consisting of AmeriCorps*State and National, AmeriCorps*VISTA, and AmeriCorps*National Civilian Community Corps (NCCC). Information on program performance will be informed by a series of surveys, conducted electronically and by telephone, of a sample of AmeriCorps members, sub-grantee organizations that deliver services, and end-beneficiaries of the services provided by projects in which AmeriCorps sub-grantee organizations and AmeriCorps members are involved.

Learn and Serve has designed a Program Reporting and Performance Measurement form and a Customer Satisfaction Survey. The Program Reporting and Performance Measurement form is designed to collect information on (a) the characteristics of grantee and subgrantee organizations; (b) the scope and structure of service-learning activities in the funded organizations; (c) numbers of participants in service learning and hours of service provided; (d) institutional supports for service learning, and (e) program outcomes. There are three different versions of the form, corresponding to the three major funding streams under Learn and Serve America: K-12 school-based programs, Higher Education-based programs, and Community-Based programs. The Learn and Serve America Customer Satisfaction Survey will gather data on grantee satisfaction with the Learn and Serve program.

Dated: July 29, 2004.
Robert Grimm,
Acting Director, Department of Research and Policy Development.

[FR Doc. 04-17843 Filed 8-4-04; 8:45 am]

BILLING CODE 6050-$$-P